DEPARTMENT OF THE INTERIOR

Bureau of Land Management

[BLM_HQ_FRN_MO4500177637]

Public Land Order No. 7936; Partial Revocation of Four Secretarial Orders for the Grand Valley Reclamation Project and Opening Order; Colorado; Correction

AGENCY: Bureau of Land Management, Interior.

ACTION: Notice; correction.

SUMMARY: The Bureau of Land Management published a document in the Federal Register on January 9, 2024, concerning a Public Land Order that partially revokes four withdrawals created by Secretarial Orders dated July 2, 1902, August 26, 1902, February 28, 1908, and July 25, 1908, issued pursuant to the Reclamation Act of June 17, 1902, section 3, to support the Bureau of Reclamation's Grand Valley Reclamation Project. The document's subject heading incorrectly stated the new PLO number.

FOR FURTHER INFORMATION CONTACT: Jennifer Jardine, BLM, Colorado State Office, at 970-385-1224, email at jjardine@blm.gov, or write to Branch of Lands and Realty, P.O. Box 151029, Lakewood, Colorado 80215-7093. Individuals in the United States who are deaf, deafblind, hard of hearing, or have a speech disability may dial 711 (TTY, TDD, or Tele Braille) to access telecommunications relay services. Individuals outside the United States should use the relay services offered within their country to make international calls to the point-of-contact in the United States.

Correction

In the Federal Register of January 9, 2024, in FR Doc. 2024-00266, on page 1126, in the third column, correct the subject heading to read: Public Land Order No. 7936; Partial Revocation of Four Secretarial Orders for the Grand Valley Reclamation Project and Opening Order; Colorado.

Robert T. Anderson,
Solicitor.

[FR Doc. 2024-07469 Filed 4-8-24; 8:45 am]

BILLING CODE 4331-29-P